DEPARTMENT OF THE TREASURY

Office of Foreign Assets Control

Sanctions Actions Pursuant to Executive Order 13382

AGENCY: Office of Foreign Assets Control, Treasury.

ACTION: Notice.

SUMMARY: The U.S. Department of the Treasury's Office of Foreign Assets Control (OFAC) is publishing the names of one or more persons whose property and interests in property are blocked pursuant to Executive Order (E.O.) 13382.

DATES: See SUPPLEMENTARY INFORMATION section for effective date(s).

FOR FURTHER INFORMATION CONTACT: The Treasury Department's Office of Foreign Assets Control: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410 (not toll free numbers).

SUPPLEMENTARY INFORMATION:

Electronic Availability

The Specially Designated Nationals and Blocked Persons List and additional information concerning OFAC sanctions programs are available on OFAC's Web site (www.treas.gov/ofac).

Notice of OFAC Actions

On May 17, 2017, OFAC's Acting Director determined that the property and interests in property of the following persons are blocked:

Individuals

1. RUNLING, Ruan (a.k.a. RUAN, Ricky; a.k.a. RUNLING, Ricky); DOB 02 Apr 1982; nationality China; Additional Sanctions Information—Subject to Secondary Sanctions; Passport P01519268 (China) expires 15 Feb 2017 (individual) [NPWMD] [IFSR].

Designated pursuant to section 1(a)(iii) of E.O. 13382 of June 28, 2005, “Blocking Property of Weapons of Mass Destruction Proliferators and Their Supporters” because he has provided, or attempted to provide, financial, material, technological, or other support for, or goods or services in support of SHIRAZ ELECTRONICS INDUSTRIES, an entity whose property and interests in property are blocked pursuant to E.O. 13382.

2. AHMADI, Rahim; DOB 07 Sep 1956; nationality Iran; Additional Sanctions Information—Subject to Secondary Sanctions; Passport A0033560 (Iran); Director, Shahid Bakeri Industries Group (individual) [NPWMD] [IFSR] (Linked To: SHAHID BAKERI INDUSTRIAL GROUP).

Designated pursuant to section 1(a)(iv) of E.O. 13382 for acting or purporting to act for or on behalf of, directly or indirectly, SHAHID BAKERI INDUSTRIAL GROUP, an entity whose property or interests in property are blocked pursuant to E.O. 13382.

3. FARASATPOUR, Morteza (a.k.a. FARASATPUR, Morteza); DOB 16 Nov 1964; nationality Iran; Additional Sanctions Information—Subject to Secondary Sanctions; Passport G9329851 (Iran); Deputy Director for Commerce, Defense Industries Organization (individual) [NPWMD] [IFSR] (Linked To: DEFENSE INDUSTRIES ORGANIZATION).

Designated pursuant to section 1(a)(iv) of E.O. 13382 for acting or purporting to act for or on behalf of, directly or indirectly, DEFENSE INDUSTRIES ORGANIZATION, an entity whose property or interests in property are blocked pursuant to E.O. 13382.

Entities

1. SHANGHAI GANG QUAN TRADE CO., Room 201, Building 1, Dahua Hotel, No. 1568 Hutai Road, Shanghai, China; Additional Sanctions Information—Subject to Secondary Sanctions [NPWMD] [IFSR].

Designated pursuant to section 1(a)(iii) of E.O. 13382 for having provided, or attempted to provide, financial, material, technological, or other support for, or goods or services in support of SHIRAZ ELECTRONICS INDUSTRIES, an entity whose property and interests in property are blocked pursuant to E.O. 13382.

2. SHANGHAI NORTH BEGINS INTERNATIONAL (a.k.a. SHANGHAI BINGZHI GUOJI MAOYI YOUXIAN GONGSI), Room 2301, Building 6, Lane 1139, Pudong Avenue, Pudong New District, Shanghai, China; 118 Rijing Rd Sixth Floor, Rm 6090, Shanghai Free Trade Experiment District, China; Additional Sanctions Information—Subject to Secondary Sanctions [NPWMD] [IFSR].

Designated pursuant to section 1(a)(iii) of E.O. 13382 for having provided, or attempted to provide, financial, material, technological, or other support for, or goods or services in support of SHIRAZ ELECTRONICS INDUSTRIES, an entity whose property and interests in property are blocked pursuant to E.O. 13382.

3. SHANGHAI NORTH TRANSWAY INTERNATIONAL TRADING CO., Room 201, Building 1, Dahua Hotel, No. 1568 Hutai Road, Shanghai, China; Room 2301, Building 6, Lane 1139, Pudong Avenue, Pudong New District, Shanghai, China; 181 Fute Rd 1st floor Rm 103, Shanghai Free Trade Experiment District, China; Additional Sanctions Information—Subject to Secondary Sanctions [NPWMD] [IFSR].

Designated pursuant to section 1(a)(iii) of E.O. 13382 for having provided, or attempted to provide, financial, material, technological, or other support for, or goods or services in support of SHIRAZ ELECTRONICS INDUSTRIES, an entity whose property and interests in property are blocked pursuant to E.O. 13382.

4. MATIN SANAT NIK ANDISHAN (a.k.a. IRANIAN NOVIN SYSTEMS MANAGEMENT; a.k.a. “MASNA”; a.k.a. “MSNA”), Unit 13, Number 13, Kuhestan-e Sheshom, Nobonyad Square, Tehran, Iran; Additional Sanctions Information—Subject to Secondary Sanctions [NPWMD] [IFSR].

Designated pursuant to section 1(a)(iii) of E.O. 13382 for having provided, or attempted to provide, financial, material, technological, or other support for, or goods or services in support of SHAHID HEMMAT INDUSTRIES GROUP, an entity whose property and interests in property are blocked pursuant to E.O. 13382.

Dated: May 17, 2017.
Andrea M. Gacki,
Acting Director, Office of Foreign Assets Control.

[FR Doc. 2017-10441 Filed 5-22-17; 8:45 am]

BILLING CODE 4810-AL-P